DEPARTMENT OF LABOR

Employment and Training Administration

[TA-W-71,701]

Key Gas Components, Inc., Marion, NC; Notice of Negative Determination Regarding Application for Reconsideration

By application dated January 8, 2010, a petitioner requested administrative reconsideration of the Department's negative determination regarding eligibility to apply for Trade Adjustment Assistance (TAA), applicable to workers and former workers of the subject firm. The denial notice was signed on December 31, 2009 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination of the TAA petition filed on behalf of workers at Key Gas Components, Inc., Marion, North Carolina was based on the finding that imports of valves and manifolds did not contribute importantly to worker separations at the subject firm and there was no shift in production from the subject firm to a foreign country during the period under investigation.

The petitioner stated that the workers of the subject firm should be eligible for TAA because the worker separations were directly caused by the imports of articles like or directly competitive with articles manufactured by workers of the subject firm. Moreover, the petitioner alleged that Key Gas Components imports these articles.

The initial investigation did, in fact, reveal imports of like or directly competitive products with valves and manifolds manufactured by workers of the subject firm. However, the data analysis revealed that imports of valves and manifolds declined relatively and absolutely to the subject firm's sales and production from 2007 to 2008 and further declined during January through June, 2009 over the corresponding 2008 period.

Furthermore, the Department surveyed subject firm's major declining customers regarding their purchases of valves and manifolds during the relevant period. The survey revealed no imports of valves and manifolds.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 2nd day of February, 2010.
Del Min Amy Chen,
Certifying Officer, Division of Trade Adjustment Assistance.

[FR Doc. 2010-3017 Filed 2-12-10; 8:45 am]

BILLING CODE 4510-FN-P